DEPARTMENT OF ENERGY

Federal Energy Regulatory Commission

[Docket No. RP95-408-042]

Columbia Gas Transmission Corporation; Notice of Compliance Filing

January 2, 2002.

Take notice that on December 17, 2001, Columbia Gas Transmission Corporation (Columbia) tendered for filing as part of its FERC Gas Tariff, Second Revised Volume No. 1, the following revised tariff sheets, bearing a proposed effective date of January 1, 2002:

Fifty-fourth Revised Sheet No. 25

Fifty-fourth Revised Sheet No. 26

Fifty-fourth Revised Sheet No. 27

Twenty-fourth Revised Sheet No. 30A

Columbia states that this filing is being submitted pursuant to Stipulation I, Article I, Section E, True-up Mechanism, of the Settlement (Settlement) in Docket No. RP95-408 et al., approved by the Commission on April 17, 1997 (79 FERC 61,044 (1997)). Under the approved section of the Settlement, Columbia is required to true-up its collections pursuant to the Settlement Component for 12-month periods commencing November 1, 1996 and ending October 31, 2004. The fifth 12-month period (Period V) ended October 31, 2001. Columbia is making this true-up filing in compliance with the Settlement to return a net over-recovery of $3,070,840 for Period V, which includes interest and the true-up of the Period IV Settlement Component adjustment, through an adjustment to the Settlement Component of the base rates for the period January 1, 2002 through October 31, 2002.

Columbia states that copies of its filing have been mailed to all firm customers, interruptible customers, and affected state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-336 Filed 1-7-02; 8:45 am]

BILLING CODE 6717-01-P